FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Government-Administered, General-Use Prepaid Card Surveys (FR 3063; OMB No. 7100-0343). The revisions are applicable as of the data collection administered during the first half of 2021.

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503, or by fax to (202) 395-6974.

SUPPLEMENTARY INFORMATION: On June 15, 1984, OMB delegated to the Board authority under the PRA to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, With Revision, of the Following Information Collection:

Report title: Government-Administered, General-Use Prepaid Card Surveys.

Agency form number: FR 3063.

OMB control number: 7100-0343.

Effective Date: As of the data collection administered during the first half of 2021.

Frequency: Annually.

Respondents: Depository institutions that administer general-use prepaid cards.

Estimated number of respondents: 15.

Estimated average hours per response: 10.

Estimated annual burden hours: 150.

General description of report: The issuer survey (FR 3063a) collects data from issuers of government-administered, general-use prepaid cards including information on the pre-paid card program, the number of cards outstanding, card funding, ATM transactions, purchase transactions, fees paid by issuers to third parties, interchange fees, and cardholder fees. The issuer survey (FR 3063a) is mandatory. The government survey (FR 3063b), which is being discontinued, was designed to collect data from state governments, the District of Columbia, and U.S. territories (collectively “state governments”), and municipal government offices located within the United States (local government offices) that administer general-use prepaid card payment programs.¹ It was intended that the FR 3063b survey would collect similar information from state governments and local government offices to supplement the information collected from card issuers in the FR 3063a survey on the usage of general-use prepaid cards in federal, state or local government-administered payment programs. However, the FR 3063b was voluntary, and the Board has not issued this survey to state governments or local government offices in the past three years because relevant information on the use of prepaid cards was obtained from the FR 3063a survey.

¹ The government survey may be distributed to federal government agencies in addition to state and local governments and U.S. territories, but collections of information from federal government agencies are not subject to the Paperwork Reduction Act and, thus, are not included in this discussion. U.S. territories include American Samoa, Guam, Midway Islands, Northern Mariana Islands, Puerto Rico, and U.S. Virgin Islands.

The Board uses data from the FR 3063a survey to support an annual report to Congress on the prevalence of use of general-use prepaid cards in federal, state, and local government-administered payment programs and on the interchange and cardholder fees charged with respect to such use of such cards.

Legal authorization and confidentiality: The issuer survey is authorized by subsection 920(a)(7) of the Electronic Fund Transfer Act, 15 U.S.C. 1693o-2(a)(7), which was added by section 1075(a) of the Dodd-Frank Wall Street Reform and Consumer Protection Act. This subsection requires the Board to submit an annual report to Congress on the prevalence of the use of general-use prepaid cards in federal, state, or local government-administered payment programs and the interchange transaction fees and card-holder fees charged with respect to the use of such general-use prepaid cards (15 U.S.C. 1693o-2(a)(7)(D)). It also provides the Board with authority to require issuers to provide information to enable the Board to carry out the provisions of the subsection (15 U.S.C. 1693o-2(a)(3)(B)). The obligation of issuers to respond to the issuer survey is mandatory. The Board generally regards the information collected from each individual issuer on the FR 3063a survey as confidential commercial and financial information, which may be protected by exemption 4 of the Freedom of Information Act (5 U.S.C. 552(b)(4)). The Board, however, may publicly release aggregate or summary information in a way that does not reveal the individual issuer.

Current actions: On November 19, 2020, the Board published a notice in the Federal Register (85 FR 73708) requesting public comment for 60 days on the extension, with revision, of the Government-Administered, General-Use Prepaid Card Surveys. The Board proposed to revise and streamline the FR 3063a reporting structure to reduce burden on respondents by deleting various questions, which are no longer necessary to support the Board's annual report. In addition, the Board proposed to discontinue the FR 3063b. The comment period for this notice expired on January 19, 2021. The Board did not receive any comments. The revisions will be implemented as proposed.

Board of Governors of the Federal Reserve System, March 2, 2021.
Michele Taylor Fennell,
Deputy Associate Secretary of the Board.

[FR Doc. 2021-04689 Filed 3-5-21; 8:45 am]

BILLING CODE 6210-01-P